DEPARTMENT OF DEFENSE

Office of the Secretary

[Transmittal No. 19-62]

Arms Sales Notification

AGENCY: Defense Security Cooperation Agency, Department of Defense.

ACTION: Arms sales notice.

SUMMARY: The Department of Defense is publishing the unclassified text of an arms sales notification.

FOR FURTHER INFORMATION CONTACT: Karma Job at karma.d.job.civ@mail.mil or (703) 697-8976.

SUPPLEMENTARY INFORMATION: This 36(b)(1) arms sales notification is published to fulfill the requirements of section 155 of Public Law 104-164 dated July 21, 1996. The following is a copy of a letter to the Speaker of the House of Representatives, Transmittal 19-62 with attached Policy Justification and Sensitivity of Technology.

Dated: December 10, 2019.
Aaron T. Siegel,
Alternate OSD Federal Register Department of Defense.

BILLING CODE 5001-06-P

BILLING CODE 5001-06-C

Transmittal No. 19-62

Notice of Proposed Issuance of Letter of Offer Pursuant to Section 36(b)(1) of the Arms Export Control Act, as amended

(i) Prospective Purchaser: Government of Thailand

(ii) Total Estimated Value:

Major Defense Equipment * | $300 million
Other | $100 million
TOTAL | $400 million

(iii) Description and Quantity or Quantities of Articles or Services under Consideration for Purchase:

Major Defense Equipment (MDE):

Eight (8) AH-6i Helicopters, Light Attack-Reconnaissance

Fifty (50) AGM-114R Hellfire

Two-hundred (200) Advance Precision Kill Weapon System (APKWS) Rockets

Non-MDE:

Also included are ten (10) M134 Mini Guns, ten (10) M260 Rocket Launchers, ten (10) M299 Longbow Hellfire Launcher, ten (10) AN/APN-209 Radar Altimeter, eight (8) AN/APR-39(V)(4), four (4) GAU-19/B .50 Cal Machine Gun, five-hundred (500) Hydra 70 Rockets, twenty (20) AN/AVS-6 Night Vision Goggles, eight (8) WESCAM MX-10Di Cameras, ten (10) AN/APX-123 IFF, ten (10) AN/ARC 201E-VHF-FM, ten (10) AN/ARC-231 w/ MX-4027, ten (10) LN-251 Inertial Navigation System/Global Positioning System (EGI), Aircrew Trainer (ACT), Pilot Desktop Trainer (PDT), Virtual Maintenance Trainer (VMT), contractor provided pilot and maintainer training, peculiar ground support equipment, spares, publications, integrated product support, technical assistance, quality assurance team, transportation, and other related elements of logistics and program support.

(iv) Military Department: Army (TH-B-WHB)

(v) Prior Related Cases, if any: None

(vi) Sales Commission, Fee, etc., Paid, Offered, or Agreed to be Paid: None

(vii) Sensitivity of Technology Contained in the Defense Article or Defense Services Proposed to be Sold: See Annex Attached

(viii) Date Report Delivered to Congress: September 24, 2019

*As defined in Section 47(6) of the Arms Export Control Act.

POLICY JUSTIFICATION

Thailand—AH-6i Helicopters

The Government of Thailand has requested to buy eight (8) AH-6i light attack reconnaissance helicopters; fifty (50) AGM-114R Hellfire missiles; and two-hundred (200) Advance Precision Kill Weapon System (APKWS) Rockets. Also included are ten (10) M134 Mini Guns, ten (10) M260 Rocket Launchers; ten (1) M299 Longbow Hellfire Launcher; ten (10) AN/APN-209 Radar Altimeter; eight (8) AN/APR-39(V)(4) four (4) GAU-19/B .50 Cal Machine Gun; five-hundred (500) Hydra 70 Rockets; twenty (20) AN/AVS-6 Night Vision Goggles; eight (8) WESCAM MX-10Di Cameras; ten (10) AN/APX-123 IFF; ten (10) AN/ARC 201E-VHF-FM; ten (10) AN/ARC-231 w/ MX-4027; ten (10) LN-251 Inertial Navigation System/Global Positioning System (EGI); Aircrew Trainer (ACT); Pilot Desktop Trainer (PDT); Virtual Maintenance Trainer (VMT;, contractor provided pilot and maintainer training peculiar ground support equipment; spares; publications; integrated product support; technical assistance; quality assurance team; transportation; and other related elements of logistics and program support. The total estimated program cost is $400 million.

This proposed sale will support the foreign policy and national security objectives of the United States by helping to improve the security of a Major Non-NATO ally in INDO-PACOM. Thailand is a strategic partner committed to contributing to regional security.

The proposed sale of the AH-6i helicopter will improve the Royal Thai Army's (RTA) light attack capability to strengthen its homeland defense and deter regional threats. These AH-6i helicopters will replace the RTA's aging fleet of seven AH-IF Cobra helicopters. As part of a broader military modernization effort, these AH-6i helicopters will provide light attack reconnaissance for close air support to special operations forces, Stryker infantry soldiers and border guard units. Thailand will have no difficulty absorbing this equipment into its armed forces.

The proposed sale of this equipment and support will not alter the basic military balance in the region.

The principal contractor for the AH-6i is Boeing Company, Mesa, Arizona. There are no known offset agreements proposed in connection with this potential sale.

Implementation of this proposed sale will not require the assignment of any permanent additional U.S. Government or Contractor representatives to Thailand.

There will be no adverse impact on U.S. defense readiness as a result of this proposed sale.

Transmittal No. 19-62

Notice of Proposed Issuance of Letter of Offer Pursuant to Section 36(b)(1) of the Arms Export Control Act

Annex Item No. vii

(vii) Sensitivity of Technology:

1. The AH-6i Light Attack Helicopter is a commercial-off-the-shelf, light attack/reconnaissance helicopter to include AN/APX-123 Identification Friend or Foe (IFF) Mode S Transponder, AN/ARC 201E-VHF /FM Radio, AN/ARC-231 w/ MX-4027 Radio and LN 251 Embedded GPS/INS (EGI). The helicopter will be equipped with the WESCAM MX-10Di Sight/Targeting Sensor to ensure commonality and interoperability with the other aircraft platforms. The airframe itself does not contain sensitive technology.

2. Identification and security classification of sensitive technological information and/or restricted information contained in the equipment, major components, subsystems, software, technical data (Performance, Maintenance, R&M, etc.) documentation, training devices and services to be conveyed with the proposed sale. Also a brief explanation of why information is sensitive:

a. The AN/APX-123, Identification Friend or Foe (IFF) Transponder, is a space diversity transponder and is installed on various military platforms. When installed in conjunction with platform antennas and the RCU (or other appropriate control unit), the transponder provides identification, altitude and surveillance reporting in response to interrogations from airborne, ground-based and/or surface interrogators. The transponder provides operational capabilities for Mark XII Identification IFF capabilities of Modes 1, 2, 2/A, C and 4&5 and Modes S (levels 1, 2, and 3 capable).

b. The LN-251 INS/GPS is a satellite based positioning system coupled to the aircraft inertial navigation system to provide aircraft position and navigation. The INS/GPS has an embedded SAASM and has gyro and accelerometers that have been evaluated as MTCR Category II controlled items, specifically items 9.A.6 and 9.A.8.

c. The WESCAM MX-10Di is a small Multi-Sensor, Multi-Spectral Imaging System with Inertial Measurement Unit (IMU) and Embedded with Global Positioning System (GPS) Standard Positioning Service (SPS). WESCAM MX-10 is embedded with GPS SPS. SPS is a three dimensional position and time determination capability provided to a user equipped with a minimum capability GPS SPS receiver in accordance with GPS national policy. The LN-200 is a small, lightweight fiber optic IMU comprised of gyro and accelerometers that have been evaluated as MTCR Category II controlled item, specifically item 9.A.6.

d. The M134 Mini Gun has variable rates of fire-up to 4000 rounds per minute-and has seen increasingly widespread deployment over the last several years.

e. The AN/APR-39 (V) (4) Radar Signal Detecting Set is a system that provides warning of a radar directed air defense threat and allow appropriate countermeasures.

f. The 12.7mm (.50 caliber) GAU-19/B Externally Powered Gatling Gun, has variable rates of fire-up to 2000 rounds per minute-and has seen increasingly widespread deployment over the last several years.

g. The M299 Longbow Hellfire Launcher (LBHL) is a digital missile launcher capable of carry and launch of up to four of any combination of AGM-114 missiles. The launcher provides electronic functions required for the missile and launcher to communicate with the platform through MIL-STD-1760 and MIL-STD-1553 interfaces. The production quad-rail configuration was designed for use on the AH-64D Apache Longbow but is also commonly used on a wide variety of other rotary-wing platforms across all services. The M299 launcher has also been successfully re-configured into a dual rail launcher for weight savings and/or use on smaller platforms and also into a single-rail configuration for use on Un-manned Air System (UAS) platforms where the launcher electronics is integrated within the platform airframe.

h. The AGM-114 Hellfire II is a precision strike, Semi-Active Laser (SAL) guided missile and is the principal air-to-ground weapon for the Army AH-64 Apache. It provides the warfighter with an air-to-ground, point target precision strike capability to defeat advanced armor and an array of traditional and non-traditional targets. The Hellfire AGM-114R model is a selectable multipurpose warhead providing effects against a diverse target set.

i. The M260 Rocket Launcher with APKWS capability is a seven tube rocket launcher with a remote fuze setting function. Once the target is located, single or multiple pairs of the Hydra 70 APKWS folding-fin rockets can be launched toward the target when a predetermined time signal is sent to the electronic time fuze.

j. The APKWS is a low cost semi-active laser guidance kit developed by BAE Systems which is added to current unguided 70 mm rocket motors and warheads similar to and including the Hydra 70 rocket. It is a low collateral damage weapon that can effectively strike both soft and lightly armored targets. APKWS turns a standard unguided 2.75 inch (70 mm) rocket into a precision laser-guided rocket.

k. AN/AVS-6 (Helmet Mounted) Night Vision Goggles. The AN/AVS-6 NVG is a 3rd generation aviation NVG offering higher resolution, high gain, and photo response to near infrared. AN/AVS-6 is a lightweight, binocular, night vision imaging system developed by the US Army specifically for helicopter flying. The system can be mounted to a variety of aviator helmets, including the SPH-4B, HGU-56P, HGU-5/P, HGU-55/G, HGU-26/P and Alpha. A 25mm eye relief eyepieces easily accommodate eyeglasses. Low-profile battery pack improves aviator head mobility and increases battery life. Other features include flip-up/flop-down capability, simple binocular attachment, individual interpapillary adjustment, tilt, vertical and fore-aft adjustments to fit all aviators.

3. If a technologically advanced adversary were to obtain knowledge of the specific hardware and software elements, the information could be used to develop countermeasures that might reduce weapon system effectiveness or be used in the development of a system with similar or advanced capabilities.

4. A determination has been made that Thailand can provide substantially the same degree of protection for the technology being released as the U.S. Government. This sale supports the U.S. foreign policy and national security objectives as outlined in the Policy Justification.

5. All defense articles and services listed in this transmittal have been authorized for release and export to Thailand.

[FR Doc. 2019-27050 Filed 12-13-19; 8:45 am]

BILLING CODE 5001-06-P